DEPARTMENT OF ENERGY

Federal Energy Regulatory Commission

Combined Notice of Filings

Take notice that the Commission has received the following Natural Gas Pipeline Rate and Refund Report filings:

Filings Instituting Proceedings

Docket Numbers: RP12-840-000.

Applicants: Ruby Pipeline, L.L.C.

Description: Supplement to FL&U and EPC Adjustment Filing.

Filed Date: 7/6/12.

Accession Number: 20120706-5109.

Comments Due: 5 p.m. ET 7/18/12.

Docket Numbers: RP12-855-000.

Applicants: Tennessee Gas Pipeline Company, L.L.C.

Description: Bring Rate Case/Settlement Tariff Sheets Up-to-date to be effective 11/10/2011.

Filed Date: 7/9/12.

Accession Number: 20120709-5062.

Comments Due: 5 p.m. ET 7/23/12.

Docket Numbers: RP12-856-000.

Applicants: Cheyenne Plains Gas Pipeline Company, L.

Description: Table of Contents Update Filing to be effective 8/10/2012.

Filed Date: 7/9/12.

Accession Number: 20120709-5092.

Comments Due: 5 p.m. ET 7/23/12.

Docket Numbers: RP12-857-000.

Applicants: Dominion Transmission, Inc.

Description: DTI—Appalachian Gateway In-Service to be effective 9/1/2012.

Filed Date: 7/9/12.

Accession Number: 20120709-5161.

Comments Due: 5 p.m. ET 7/23/12.

Docket Numbers: RP12-858-000.

Applicants: Gulf South Pipeline Company, LP.

Description: Devon 34694-37 Amendment to Neg Rate Agmt filing to be effective 7/10/2012.

Filed Date: 7/10/12.

Accession Number: 20120710-5032.

Comments Due: 5 p.m. ET 7/23/12.

Docket Numbers: RP12-859-000.

Applicants: Gulf South Pipeline Company, LP.

Description: QEP 37657-20 Amendment to Neg Rate Agmt filing to be effective 7/7/2012.

Filed Date: 7/10/12.

Accession Number: 20120710-5033.

Comments Due: 5 p.m. ET 7/23/12.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: July 10, 2012.
Nathaniel J. Davis, Sr.,
Deputy Secretary.

[FR Doc. 2012-17338 Filed 7-16-12; 8:45 am]

BILLING CODE 6717-01-P